DEPARTMENT OF AGRICULTURE

Forest Service

Davy Crockett-Sam Houston Resource Advisory Committee

AGENCY: Forest Service, USDA.

ACTION: Notice of meeting.

SUMMARY: The Davy Crockett-Sam Houston Resource Advisory Committee (RAC) will conduct a virtual meeting by telephone conference. The committee is authorized under the Secure Rural Schools and Community Self-Determination Act (the Act) and operates in compliance with the Federal Advisory Committee Act. The purpose of the committee is to improve collaborative relationships and to provide advice and recommendations to the Forest Service concerning projects and funding consistent with the Act. RAC information can be found at the following website: https://www.fs.usda.gov/main/pts/specialprojects/racs.

DATES: The meeting will be held on Thursday, July 8, 2021 from 3:00 p.m.-5:00 p.m., Central Daylight Time. All RAC meetings are subject to cancellation. For status of the meeting prior to attendance, please contact the person listed under FOR FURTHER INFORMATION CONTACT.

ADDRESSES: The meeting will be held by teleconference. Please use the following information to access the call; dial 1-888-844-9904 using access code 2213326#. If you need assistance, please contact Michelle Rowe at 936-222-2487 for instructions.

Written comments may be submitted as described under SUPPLEMENTARY INFORMATION. All comments, including names and addresses when provided, are placed in the record and are available for public inspection and copying. The public may inspect comments received at Davy Crockett National Forest Ranger Station. Please call ahead to facilitate entry into the building.

FOR FURTHER INFORMATION CONTACT: Michelle Rowe, RAC Coordinator, by phone at 936-553-3066 or via email at lisa.rowe@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Introduce the new Designated Federal Officer;

2. Discuss project priority list;

3. Discuss budget;

4. Vote on new project proposals; and

5. Discuss new RAC member solicitation.

The meeting is open to the public. The agenda will include time for people to make oral statements of three minutes or less. Individuals wishing to make an oral statement should request in writing by July 2, 2021 to be scheduled on the agenda. Anyone who would like to bring related matters to the attention of the committee may file written statements with the committee staff before or after the meeting. Written comments and requests for time to make oral comments must be sent to Jimmy Tyree, Designated Federal Officer, 18551 State Highway 7 East, Kennard, Texas 75847; by email to jimmy.tyree@usda.gov, or via facsimile to 936-655-2817.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: June 21, 2021.
Cikena Reid,
USDA Committee Management Officer.

[FR Doc. 2021-13538 Filed 6-22-21; 4:15 pm]

BILLING CODE 3411-15-P